DEPARTMENT OF ENERGY

Federal Energy Regulatory Commission

Combined Notice of Filings #1

Correction

In notice document 2010-7818 beginning on page 17703 in the issue of Wednesday, April 7 make the following correction:

On page 17704, in the first column, immediately after the 10th line, insert the following text:

Accession Number: 20100329-0203.

Comment Date: 5 p.m. Eastern Time on Friday, April 16, 2010.

Docket Numbers: ER10-941-000.

Applicants: Southwest Power Pool, Inc.

Description: Southwest Power Pool, Inc submits an executed Letter Agreement Regarding Comprehensive Seams Agreement Between Entergy Services, In and SPP.

Filed Date: 03/26/2010.

[FR Doc. C1-2010-7818 Filed 5-25-10; 8:45 am]

BILLING CODE 1505-01-D